DEPARTMENT OF TRANSPORTATION

Federal Aviation Administration

14 CFR Part 39

[Docket No. FAA-2006-25670; Directorate Identifier 2006-NM-027-AD; Amendment 39-14868; AD 2006-26-10]

RIN 2120-AA64

Airworthiness Directives; Airbus Model A300 B2 and B4 Series Airplanes

AGENCY: Federal Aviation Administration (FAA), Department of Transportation (DOT).

ACTION: Final rule.

SUMMARY: The FAA is adopting a new airworthiness directive (AD) for certain Airbus Model A300 B2 and B4 series airplanes. This AD requires revising the airplane flight manual (AFM) to include procedures for resetting the trim and pitch trim levers after each landing, determining which servomotor moves the pitch trim control wheel, and doing applicable other specified actions. This AD also provides for optional terminating actions for those requirements. This AD results from a report of a sudden nose-up movement after disengagement of the autopilot in cruise. We are issuing this AD to ensure that the flightcrew is aware of the procedures for resetting the trim and pitch trim levers after each landing and to prevent failure of the servomotors of the pitch trim systems during flight. Failure of the servomotors of the pitch trim systems could result in uncommanded nose-up movement of the control surface of the pitch trim systems after disengagement of the autopilot in cruise.

DATES: This AD becomes effective February 21, 2007.

The Director of the Federal Register approved the incorporation by reference of certain publications listed in the AD as of February 21, 2007.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Thomas Stafford, Aerospace Engineer, International Branch, ANM-116, Transport Airplane Directorate, FAA, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300 B2 and B4 series airplanes. That NPRM was published in the Federal Register on August 23, 2006 (71 FR 49385). That NPRM proposed to require revising the airplane flight manual (AFM) to include procedures for resetting the trim and pitch trim levers after each landing, determining which servomotor moves the pitch trim control wheel, and doing applicable other specified actions. That NPRM also provided for optional terminating actions for those requirements.

Comments

We provided the public the opportunity to participate in the development of this AD. We have considered the comments received.

Request To Include Procedures From the Temporary Revision

ASTAR Air Cargo (ASTAR) requests that paragraph (f) of the NPRM be revised to include the AFM procedures specified in French airworthiness directive F-2003-291 R1, issued July 6, 2005. ASTAR notes that paragraph (f) of the NPRM requires revising the AFM by “including the information in Airbus A300 Temporary Revision (TR) 4.03.00/04, Issue 02, dated November 18, 2003.” ASTAR states that TR 4.03.00/04 may not be considered active nor accessible from Airbus, and that the procedures are not included in its A300 United States AFM.

We agree with ASTAR's request for the stated reasons. We have revised paragraphs (f) and (g) of this AD accordingly.

Request To Incorporate by Reference Service Information in the NPRM

The Modification and Replacement Parts Association (MARPA) requests that all service information referenced in the NPRM be incorporated by reference during the NPRM phase of the rulemaking. MARPA states that, when a service document is incorporated by reference, it loses its private, protected status and becomes itself a public document. MARPA contends that public laws such as ADs must be made public because operators cannot comply with ADs referencing private writings. MARPA expresses concern that failing to incorporate by reference essential service information could result in a court decision invalidating the AD.

We do not agree that service information should be incorporated by reference during the NPRM phase of rulemaking. The Office of the Federal Register (OFR) requires that service information that is necessary to do the requirements of the AD be incorporated by reference during the final rule phase of rulemaking. This final rule incorporates by reference the service information necessary for doing the requirements of this AD. Further, we point out that while service information that is incorporated by reference does become public information, it does not lose its copyright protection. For that reason, we advise the public to contact the manufacturer to obtain copies of the referenced service information.

Request To Post Service Information on the Docket Management System (DMS)

MARPA also requests that incorporated by reference service information be posted on the DMS. MARPA states that the OFR's stated purpose of incorporating by reference service information in the Federal Register is brevity; to keep from expanding the Federal Register needlessly by publishing service information already in the hands of the affected individuals. MARPA also states that affected individuals has traditionally meant aircraft owners and operators who are generally provided service information by the manufacturer. MARPA points out that a new class of affected individuals has emerged, since the majority of aircraft maintenance is now done by specialty shops instead of repair organizations, component servicing and repairs shops, etc. MARPA further points out that distributing service information only to aircraft owners who are possibly a financing or leasing company, may not actually reach the person responsible for doing the AD.

In regard to MARPA's request that service information be made available to the public by publication in the Federal Register, we agree that incorporation by reference was authorized to reduce the volume of material published in the Federal Register and the Code of Federal Regulations. However, as specified in the Federal Register Document Drafting Handbook, the Director of the OFR decides when an agency may incorporate material by reference. As MARPA is aware, the OFR files service information for public inspection on the workday before the date of publication of the AD at its office in Washington, DC. As stated in the Federal Register Document Drafting Handbook, when service information is filed for public inspection, anyone may inspect or copy file service information during the OFR's hours of business. Further questions regarding publication of service information in the Federal Register or incorporation by reference should be directed to the OFR.

In regard to MARPA's request to post service information on the Department of Transportation's DMS, we are currently in the process of reviewing issues surrounding the posting of service information on the DMS as part of an AD docket. Once we have thoroughly examined all aspects of this issue and have made a final determination, we will consider whether our current practice needs to be revised. No change to the final rule is necessary in response to this comment.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD. The average labor rate per hour is $80.

Estimated Costs
Action | Work hours | Parts | Cost per airplane | Number of U.S.-registered airplanes | Fleet cost
AFM revision | 1 | None | $80 | 23 | $1,840
Determination if pitch trim control wheel moves | 1 | None | 80 | 23 | 1,840.
Optional replacement | 3 | $264 | 504 | 23 | 11,592.
Optional repetitive preventative maintenance tasks | 3 | None | 240, per task cycle | 23 | 5,520, per task cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-26-10 Airbus: Amendment 39-14868. Docket No. FAA-2006-25670; Directorate Identifier 2006-NM-027-AD.

Effective Date

(a) This AD becomes effective February 21, 2007.

Affected ADs

(b) None.

Applicability

(c) This AD applies to all Airbus Model A300 airplanes; certificated in any category; except the following airplanes:

(1) Model A300 B4-220, A300 B4-203, and A300 B2-203 airplanes in a forward facing crew cockpit certified configuration;

(2) Model A300 B4-601, B4-603, B4-620, and B4-622 airplanes;

(3) Model A300 B4-605R and B4-622R airplanes;

(4) Model A300 F4-605R and F4-622R airplanes; and

(5) Airbus Model A300 C4-605R Variant F airplanes.

Unsafe Condition

(d) This AD results from a report of a sudden nose-up movement after disengagement of the autopilot in cruise. We are issuing this AD to ensure that the flightcrew is aware of the procedures for resetting the trim and pitch trim levers after each landing and to prevent failure of the servomotors of the pitch trim systems during flight. Failure of the servomotors of the pitch trim systems could result in uncommanded nose-up movement of the control surface of the pitch trim systems after disengagement of the autopilot in cruise.

Compliance

(e) You are responsible for having the actions required by this AD performed within the compliance times specified, unless the actions have already been done.

Revision of Airplane Flight Manual (AFM)

(f) Within 14 days after the effective date of this AD, do the action specified in paragraph (f)(1) or (f)(2) of this AD.

(1) Revise the Normal Procedures section of the Airbus A300 Flight Manual to include the information in Airbus A300 Temporary Revision (TR) 4.03.00/04, Issue 02, dated November 18, 2003, as specified in the TR.

Note 1: This may be done by inserting a copy of TR 4.03.00/04, Issue 02, in the AFM. When the TR or the statement specified in paragraph (f)(2) of this AD has been included in the general revisions of the AFM, the general revisions may be inserted in the AFM, provided the relevant information in the general revision is identical to that in the TR or paragraph (f)(2) of this AD.

(2) Revise the Normal Procedures section of the Airbus A300 Flight Manual to include the following operational procedure. This may be done by inserting a copy of this AD in the AFM.

“APPROACH AND LANDING”

PITCH TRIM

—Set TRIM to 1° UP

—Set both PITCH TRIM levers to OFF

Note: Check pitch trim wheel and report any movement to maintenance.”

Determination if Pitch Trim Control Wheel Moves

(g) Following accomplishment of the AFM revision required by paragraph (f) of this AD: After each landing and before shutting down the engines, do the AFM procedures specified in Airbus A300 TR 4.03.00/04, Issue 02, dated November 18, 2003, or paragraph (f)(2) of this AD.

Determination if Servomotor Moves

(h) Before further flight after any movement reported in accordance with paragraph (g) of this AD, determine which servomotor moves the pitch trim control wheel, and do applicable other specified actions in accordance with Airbus A300 TR 22-001, dated April 11, 2003, to Chapter 22-23-00 of the Airbus A300 Fault Isolation Manual.

Note 2: Airbus A300 TR 22-001 contains a typographical error. The TR incorrectly refers to “MM 22-23-39” as the appropriate source of service information for replacing the pitch trim actuator; the correct reference is “MM 22-23-29.”

Optional Replacement of the Pitch Trim Servomotors

(i) Replace the pitch trim servomotors in the attachment area of the horizontal and vertical stabilizers with new servomotors, in accordance with the Accomplishment Instructions of Airbus Service Bulletin A300-22-0119, dated May 13, 2005.

Note 3: Airbus Service Bulletin A300-22-0119, dated May 13, 2005, refers to Thales Service Bulletin V1AM-22-005, Revision 01, dated July 27, 2005, as an additional source of service information for doing the replacement.

Repetitive Preventative Maintenance Tasks

(j) Within 12,000 flight hours after replacing one or both servomotors in accordance with paragraph (h) or (i) of this AD, or within 6 months after the effective date of this AD, whichever occurs later, do the preventative maintenance task of the pitch trim servomotor(s), in accordance with the Accomplishment Instructions of Airbus Service Bulletin A300-22-0120, excluding Appendix 01, dated May 13, 2005. Repeat the preventative maintenance task thereafter at intervals not to exceed 12,000 flight hours.

Note 4: Airbus Service Bulletin A300-22-0120, dated May 13, 2005, refers to Thales Service Bulletin V1AM-22-006, Revision 01, dated July 26, 2005, as an additional source of service information for doing the preventative maintenance task.

Removal of AFM Revision

(k) After accomplishing the actions specified in paragraph (i) and the initial task in paragraph (j) of this AD, the AFM revision required by paragraph (f) of this AD may be removed, and the requirements of paragraphs (g) and (h) of this AD are no longer required.

No Reporting

(l) Although Airbus Service Bulletin A300-22-0120, dated May 13, 2005, specifies to submit certain information to the manufacturer, this AD does not include that requirement.

Alternative Methods of Compliance (AMOCs)

(m)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(n) French airworthiness directives F-2003-291 R1, dated July 6, 2005, and F-2005-109, dated July 6, 2005, also address the subject of this AD.

Material Incorporated by Reference

(o) You must use the service information in Table 1 of this AD to do the actions that are required by this AD, unless the AD specifies otherwise. If the optional replacement is done, you must use the service information in Table 2 of this AD to do the replacement. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 1.—Material Incorporated by Reference for Required Actions
Service information | Revision/issue level | Date
(1) Airbus A300 Temporary Revision 22-001 to Chapter 22-23-00 of the Airbus A300 Fault Isolation Manual | Original | April 11, 2003.
(2) Airbus A300 Temporary Revision 4.03.00/04 to Airbus 300 Flight Manual | Issue 02 | November 18, 2003.
(3) Airbus Service Bulletin A300-22-0120, excluding Appendix 01 | Original | May 13, 2005.

Table 2.—Material Incorporated by Reference for Optional Actions
Service information | Revision level | Date
Airbus Service Bulletin A300-22-0119 | Original | May 13, 2005.

Issued in Renton, Washington, on December 21, 2006.
Ali Bahrami,
Manager, Transport Airplane Directorate, Aircraft Certification Service.

[FR Doc. E7-399 Filed 1-16-07; 8:45 am]

BILLING CODE 4910-13-P